POSTAL REGULATORY COMMISSION

[Docket No. CP2025-10; Order No. 9084]

Competitive Postal Products

AGENCY: Postal Regulatory Commission.

ACTION: Notice.

SUMMARY: The Commission is recognizing a recently filed Postal Service document with the Commission concerning time-limited changes in rates of general applicability for Competitive products. This notice informs the public of the filing, invites public comment, and takes other administrative steps.

DATES: Comments are due: August 29, 2025.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction and Overview

II. Initial Administrative Actions

III. Ordering Paragraphs

I. Introduction and Overview

On August 8, 2025, the Postal Service filed notice with the Commission concerning time-limited changes in rates of general applicability for Competitive products.¹ The Postal Service represents that, as required by 39 CFR 3035.102(b), the Notice includes an explanation and justification for the changes, the effective date, a schedule of the changed rates, and a schedule showing current prices that shall be restored. See Notice at 1. The changes are scheduled to take effect on October 5, 2025, and will roll back to current levels on January 18, 2026. Id.

¹ USPS Notice of Time-Limited Changes in Rates of General Applicability for Competitive Products, August 8, 2025 (Notice). Pursuant to 39 U.S.C. 3632(b)(2), the Postal Service is obligated to publish the Governors' Decision and record of proceedings in the Federal Register at least 30 days before the effective date of the new rates.

Attached to the Notice is Governors' Decision No. 25-5, which states the new prices are in accordance with 39 U.S.C. 3632 and 3633 and 39 CFR 3035.102.² The Governors' Decision provides an analysis of the Competitive products' price changes intended to demonstrate that the changes comply with 39 U.S.C. 3633 and 39 CFR part 3035. Governors' Decision No. 25-5 at 1. The attachment to the Governors' Decision sets forth the price changes and includes draft Mail Classification Schedule (MCS) language for Competitive products of general applicability, as well as the MCS sections with the prices that will be restored on January 18, 2026. No price changes are being made to Special Services or International Competitive products. Id. at 3.

² Notice, Decision of the Governors of the United States Postal Service on Changes in Rates of General Applicability for Competitive Products (Governors' Decision No. 25-5), at 1 (Governors' Decision No. 25-5).

The Notice also includes an application for non-public treatment of the attributable costs, contribution, and cost coverage data in the unredacted version of the annex to the Governors' Decision, as well as the supporting materials for the data. Notice at 2.

Planned price adjustments. The Governors' Decision includes an overview of the Postal Service's planned price changes, which is summarized in the table below.

Table I-1—Proposed Price Changes
Product name | Average price increase (percent)
Domestic competitive products
Priority mail express | 5.6
Retail | 5.7
Commercial | 4.9
Priority Mail | 5.6
Retail | 5.8
Commercial | 5.2
USPS Ground Advantage | 5.2
Retail | 5.1
Commercial | 5.3
Alaska Limited Overland Routes (LOR) | 6.1
Parcel Select | 5.6
Destination Entry | 5.6
Source: See Governors' Decision No. 25-5 at 2.

II. Initial Administrative Actions

The Commission establishes Docket No. CP2025-10 to consider the Postal Service's Notice. Interested persons may express views and offer comments on whether the planned changes are consistent with 39 U.S.C. 3632, 3633, and 3642, 39 CFR part 3035, and 39 CFR 3040 subparts B and E. Comments are due no later than August 29, 2025. For specific details of the planned price changes, interested persons are encouraged to review the Notice, which is available on the Commission's website at www.prc.gov.

Pursuant to 39 U.S.C. 505, Christopher Mohr is appointed to serve as Public Representative to represent the interests of the general public in this docket.

III. Ordering Paragraphs

It is ordered:

1. The Commission establishes Docket No. CP2025-10 to provide interested persons an opportunity to express views and offer comments on whether the planned changes are consistent with 39 U.S.C. 3632, 3633, and 3642, 39 CFR part 3035, and 39 CFR 3040 subparts B and E.

2. Comments are due no later than August 29, 2025.

3. Pursuant to 39 U.S.C. 505, the Commission appoints Christopher Mohr to serve as an officer of the Commission (Public Representative) to represent the interests of the general public in this docket.

4. The Secretary shall arrange for publication of this Order in the Federal Register.

By the Commission.
Erica A. Barker,
Secretary.

[FR Doc. 2025-15631 Filed 8-15-25; 8:45 am]

BILLING CODE 7710-FW-P